DEPARTMENT OF ENERGY

Federal Energy Regulatory Commission

[Project No. 637-022]

Notice of Application and Applicant-Prepared Environmental Assessment Accepted for Filing, Notice Soliciting Motions To Intervene and Protests, and Notice Soliciting Comments, Final Terms and Conditions, Recommendations and Prescriptions

April 29, 2002.

Take notice that the following hydroelectric application and applicant-prepared environmental assessment have been accepted for filing with the Commission and are available for public inspection:

a. Type of Application: New License.

b. Project No.: 637-022.

c. Date filed: March 28, 2002.

d. Applicant: Public Utility District No.1 of Chelan County (Chelan PUD).

e. Name of Project: Lake Chelan Hydroelectric Project.

f. Location: On the Chelan River in Chelan County, Washington. The project occupies about 465 acres of federal lands administered by the U.S. Forest Service and the National Park Service.

g. Filed Pursuant to: Federal Power Act 16 U.S.C. 791(a)-825(r).

h. Applicant Contact: Gregg Carrington, Chelan PUD, 327 North Wenatchee Ave, Wenatchee WA 98801 or P.O. Box 1231, Wenatchee WA 98807-1231, 509-663-8121 or within Washington State toll-free at 888-663-8121, email: gregg@chelanpud.org.

i. FERC Contact: Vince Yearick, FERC, 888 First Street, NE., Room 61-11, Washington, DC 20426, (202) 219-3073, email: vince.yearick@ferc.gov.

j. Deadline for filing interventions, protests, comments, recommendations, terms and conditions, and prescriptions: 60 days from the issuance date of this notice.

All documents (original and eight copies) should be filed with: Magalie R. Salas, Secretary, Federal Energy Regulatory Commissions, 888 First Street, NE., Washington, DC 20426. Documents may also be filed electronically via the Internet in lieu of paper. See, 18 CFR 385.2001(a)(1)(iii) and the instructions on the Commission's Web site at http://www.ferc.gov under the “e-Filing” link.

The Commission's Rules of Practice and Procedure require all intervenors filing documents with the Commission to serve a copy of that document on each person whose name appears on the official service list for the project. Further, if an intervenor files comments or documents with the Commission relating to the merits of an issue that may affect the responsibilities of a particular resource agency, they must also serve a copy of the document on that resource agency.

k. Brief Project Description: The existing Lake Chelan Project consists of: Lake Chelan, a natural glacial lake that was raised 21 feet by construction of the dam to a current normal maximum water surface elevation of 1,100 feet; a 40-foot-high, 490-foot-long, concrete gravity, steel-reinforced dam; a 14-foot-diameter power tunnel, 2.2 miles long; a 45-foot-diameter-by-125-foot-high steel surge tank located along the power tunnel approximately 700 feet upstream of the powerhouse; a 90-foot-long penstock transition that reduces from 14 feet in diameter to 12 feet in diameter and then bifurcates; two 9-foot-diameter, steel-lined, concrete-encased penstocks that reduce to 7.5 feet in diameter at the turbine shutoff valves; a 140-foot-long, 100-foot-wide and 124-foot-high reinforced concrete powerhouse that contains two vertical-shaft, Francis-type turbines with a rated generating capacity of 24,000 kilowatts (kW) each; and a 1,700-foot-long excavated tailrace channel adjacent to the mouth of the Chelan River that discharges into the Columbia River.

l. Locations of the application: A copy of the application is available for inspection and reproduction at the Commission's Public Reference and Files Maintenance Branch, located at 888 First Street, NE., Room 2-A, Washington, DC 20426, or by calling (202) 219-1371. Copies of this filing are on file with the Commission and are available for public inspection. This filing may also be viewed on the web at http://www.ferc.gov using the “RIMS” link, select “Docket#” and follow the instructions (call 202-208-2222 for assistance). A copy is also available for inspection and reproduction by contacting the applicant identified in item h above.

m. Cooperating agencies: We are asking Federal, state, local, and tribal agencies with jurisdiction and/or special expertise with respect to environmental issues to cooperate with us in the preparation of the environmental document. Agencies who would like to request cooperating status should follow the instructions for filing comments described in item n. below.

n. Comments, Recommendations, Terms and Conditions, Prescriptions, and Reply Comments: The Commission is requesting comments on the applicant's application and draft environmental assessment, final recommendations, terms and conditions, prescriptions, and final reply comments.

Anyone may submit comments, a protest, or a motion to intervene in accordance with the requirements of Rules of Practice and Procedures, 18 CFR 385.210, .211, .214. In determining the appropriate action to take, the Commission will consider all protests or other comments filed, but only those who file a motion to intervene in accordance with the Commission's Rules may become a party to the proceeding. Any comments, protest, or motions to intervene must be received on or before the specified comment date for the particular application.

The Commission directs, pursuant to Section 4.34(b) of the regulations (see Order No. 533 issued May 8, 1991, 56 FR 23108, May 20, 1991) that all comments, recommendations, terms and conditions, and prescriptions concerning the application be filed with the Commission within 60 days from the issuance date of this notice. All reply comments must be filed with the Commission within 105 days from the date of this notice.

Anyone may obtain an extension of time for these deadlines from the Commission only upon a showing of good cause or extraordinary circumstances in accordance with 18 CFR 385.2008.

All filings must: (1) Bear in all capital letters the title “PROTEST,” “MOTION TO INTERVENE,” “COMMENTS,” “REPLY COMMENTS,” “RECOMMENDATIONS,” “TERMS AND CONDITIONS,” OR “PRESCRIPTIONS;” (2) set forth in the heading the name of the applicant and the project number of the application to which the filing responds; (3) furnish the name, address, and telephone number of the person protesting or intervening; (4) otherwise comply with the requirements of 18 CFR 385.2001 through 385.2005. All comments, recommendations, terms and conditions or prescriptions must set forth their evidentiary basis; and otherwise comply with the requirements of 18 CFR 4.34(b). Agencies may obtain copies of the application directly from the applicant. Any of these documents must be filed by providing the original and the number of copies required by the Commission's regulations to: The Secretary, Federal Energy Regulatory Commission, 888 First Street, NE., Washington, DC 20426. A copy of any protest or motion to intervene must be served upon each representative of the applicant specified in the particular application.

A copy of all other filings in reference to this application must be accompanied by proof of service on all persons listed in the service list prepared by the Commission in this proceeding, in accordance with 18 CFR 4.34(b) and 385.2010.

Magalie R. Salas,
Secretary.

[FR Doc. 02-11145 Filed 5-3-02; 8:45 am]

BILLING CODE 6717-01-P